DEPARTMENT OF THE INTERIOR

Bureau of Land Management

[CO-930-1430-ET; COC-63081]

Notice of Meeting on Proposed Withdrawal; Upper Colorado River Special Recreation Management Area; Colorado

AGENCY: Bureau of Land Management, Interior.

ACTION: Notice of Public Meeting.

SUMMARY: This notice sets forth the schedule and agenda for a forthcoming meeting for the Bureau of Land Management Upper Colorado River Special Recreation Management Area near Kremmling, Colorado. This meeting will provide the opportunity for public involvement in this proposed action as required by regulation. All comments will be considered when a final determination is made on whether this land should be withdrawn.

DATES: Meeting will be held on April 13, 2000, at 7:00 p.m. All comments or requests to be heard should be received by close of business on Friday, April 7, 2000, at the Colorado State Office, 2850 Youngfield Street, Lakewood, Colorado 80215-7093, or David Atkins at the Grand Junction Field Office, 2815 H Road, Grand Junction, Colorado 81506.

ADDRESSES: The meeting will be held at the Grand County Fairgrounds, Extension Building, 210 11th Street, Kremmling, Colorado 80459.

FOR FURTHER INFORMATION CONTACT: Doris E. Chelius, BLM, in Denver at 303-239-3706, or David Atkins, BLM, in Grand Junction at 970-244-3074.

SUPPLEMENTARY INFORMATION: The Notice of Proposed Withdrawal for the Upper Colorado River Special Recreation Management Area which was published in the Federal Register on September 3, 1999, (64 FR 48416-48417), is hereby modified to schedule a public meeting as provided by 43 U.S.C. 1714, and 43 CFR 2310.

This meeting will be open to all interested persons; those who desire to be heard in person and those who desire to submit written comments on this subject. Please indicate if you want to speak so time can be scheduled. All comments should be submitted to the Colorado State Director, Bureau of Land Management, 2850 Youngfield Street, Lakewood, Colorado 80215-7093, or David Atkins, Grand Junction Field Office, 2815 H Road, Grand Junction, Colorado 81506.

Jenny L. Saunders,
Realty Officer.

[FR Doc. 00-4057 Filed 2-18-00; 8:45 am]

BILLING CODE 4310-JB-P